NUCLEAR REGULATORY COMMISSION

[NRC-2010-0206; Docket No. 50-443]

NextEra Energy Seabrook, LLC; Notice of Receipt and Availability of Application for Renewal of Seabrook Station, Unit 1 Facility Operating License No. NPF-86 for an Additional 20-Year Period

The U.S. Nuclear Regulatory Commission (NRC or Commission) has received an application, dated May 25, 2010, from NextEra Energy Seabrook, LLC (NES), filed pursuant to Section 103 of the Atomic Energy Act of 1954, as amended, and Title 10 of the Code of Federal Regulations Part 54 (10 CFR part 54), to renew the operating license for Seabrook Station,

Unit 1 (Seabrook Station). Renewal of the license would authorize the applicant to operate the facility for an additional 20-year period beyond the period specified in the current operating license. The current operating license for Seabrook Station (NPF-86) expires on March 15, 2030. Seabrook Station is a pressurized-water reactor designed by Westinghouse. Seabrook Station is located 13 miles south of Portsmouth, NH. The acceptability of the tendered application for docketing and other matters, including an opportunity to request a hearing, will be the subject of subsequent Federal Register notices.

Copies of the application are available to the public at the Commission's public document room (PDR), located at One White Flint North, 11555 Rockville Pike, Rockville, MD 20852 or through the internet from the NRC's Agencywide Documents Access and Management System (ADAMS) Public Electronic Reading Room under Accession Number ML101590094. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail to pdr.resource@nrc.gov.

A copy of the license renewal application for Seabrook Station is also available to local residents near the site at the Seabrook Library, 25 Liberty Street, Seabrook, NH 03874 and at the Amesbury Public Library, 149 Main Street, Amesbury, MA 01913.

Dated at Rockville, Maryland, this 10th day of June, 2010.
For the Nuclear Regulatory Commission.
Brian E. Holian,
Director, Division of License Renewal, Office of Nuclear Reactor Regulation.

[FR Doc. 2010-14497 Filed 6-15-10; 8:45 am]

BILLING CODE 7590-01-P